DEPARTMENT OF TRANSPORTATION

Federal Aviation Administration

Seventeenth Tactical Operations Committee Meeting

AGENCY: Federal Aviation Administration (FAA), U.S. Department of Transportation (DOT).

ACTION: Seventeenth TOC Meeting.

SUMMARY: The FAA is issuing this notice to advise the public of the Seventeenth TOC Meeting. TOC is a subcommittee of the Federal advisory committee, RTCA Inc.

DATES: The meeting will be held August 22, 2017, 10:30 a.m.-12:30 p.m., Eastern Daylight Time.

ADDRESSES: The meeting will be held at: RTCA Headquarters, 1150 18th Street NW., Suite 910, Washington, DC 20036.

FOR FURTHER INFORMATION CONTACT: Trin Mitra, TOC Secretariat, 202-330-0665, tmitra@rtca.org, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given of the Seventeenth TOC Meeting. The TOC is a component of RTCA, which is a Federal Advisory Committee. The agenda will include the following:

August 22, 2017, 10:30 a.m. to 12:30 p.m., Eastern Daylight Time

1. Welcome and Introductions of TOC Members

2. Official Statement of Designated Federal Official

3. Review and Approval of Meeting Summary From the Sixteenth TOC Meeting

4. FAA Update

5. Consideration of Recommendations on PBN Route Structure

6. Consideration of Recommendations on Aeronautical Information Management Modernization (AIMM) Segment 3

7. Discussion on Current and Future Tasks

8. Other Business

9. Closing Comments—DFO and Chairs

10. Adjourn

Attendance is open to the interested public but limited to space availability. With the approval of the Chairman, members of the public may present oral statements at the meeting. Persons wishing to present statements or obtain information should contact the person listed in the FOR FURTHER INFORMATION CONTACT section. Members of the public may present a written statement to the committee at any time.

Issued in Washington, DC, on August 3, 2017.
Mohannad Dawoud,
Management & Program Analyst, Partnership Contracts Branch, ANG-A17, NextGen, Procurement Services Division, Federal Aviation Administration.

[FR Doc. 2017-16646 Filed 8-7-17; 8:45 am]

BILLING CODE 4910-13-P